DEPARTMENT OF VETERANS AFFAIRS

[OMB Control No. 2900-0521]

Agency Information Collection Activity Under OMB Review: Certification of Loan Disbursement, Verification of Deposit and Verification of Employment

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0521.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-0521” in any correspondence.

SUPPLEMENTARY INFORMATION:

Authority: 44 U.S.C. 3501-21.

Title: Certification of Loan Disbursement, Verification of Deposit and Verification of Employment.

OMB Control Number: 2900-0521.

Type of Review: Revision of a currently approved collection.

Abstract: VA Form 26-1820 is used for loans closed on the prior approval and automatic basis. It is used by lenders closing VA loans under 38 U.S.C. 3710 and thereby complies with the provisions of 38 U.S.C. 3702(c) which requires lenders to report to the Secretary on loans guaranteed or insured.

In this information collection request VA has revised the VA Form 26-1820 to include additional fields and certifications. The fields added are already collected routinely by the lender and do not add an undue burden to the lender. In addition, certifications that are to be provided to the Veteran were added that were included in OMB Control # 2900-0144.

An agency may not conduct or sponsor, and a person is not required to respond to a collection of information unless it displays a currently valid OMB control number. The Federal Register Notice with a 60-day comment period soliciting comments on this collection of information was published at: 87 FR 138 on September 19, 2022, pages 43386 and 43387.

Affected Public: Individuals or Households.

Estimated Annual Burden: 267,167.

Estimated Average Burden per Respondent: 20 minutes.

Frequency of Response: One time.

Estimated Number of Respondents: 804,000.

By direction of the Secretary.
Dorothy Glasgow,
VA PRA Clearance Officer (Alt), Office of Enterprise and Integration, Data Governance Analytics, Department of Veterans Affairs.

[FR Doc. 2022-20759 Filed 9-23-22; 8:45 am]

BILLING CODE 8320-01-P